DEPARTMENT OF TRANSPORTATION

Research and Special Programs Administration, Office of Hazardous Materials Safety

Notice of Applications for Modification of Exemption

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before December 11, 2000.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW, Washington, DC or at http://dms.dot.gov.

This notice of receipt of applications for modification of exemptions is published in accordance with Part 107 of the Federal hazardous materials transportation law (49 U.S.C. 5117(b); 49 CFR 1.53(b)).

Issued in Washington, DC, on November 17, 2000.
J. Suzanne Hedgepeth,
Director, Office of Hazardous Materials, Exemptions and Approvals.

Application No. | Docket No. | Applicant | Modification of exemption
7823-M |  | Honeywell International, Inc., Morristown, NJ (See Footnote 1) | 7823
9149-M |  | Ethyl Corporation, Richmond, VA (See Footnote 2) | 9149
9408-M |  | Voltaix, Inc., North Branch, NJ (See Footnote 3) | 9408
9884-M |  | Mallinckrodt, Inc. (Puritan Bennett Corp), Indianapolis, IN (See Footnote 4) | 9884
10915-M |  | Luxfer Gas Cylinders (Composite Cylinder Div), Riverside, CA (See Footnote 5) | 10915
11826-M |  | Spectra Gases, Inc., Branchburg, NJ (See Footnote 6) | 11826
12065-M | RSPA-1998-3831 | International Flavors & Fragrances, Inc., Union Beach, NJ (See Footnote 7) | 12065
12068-M | RSPA-1998-3850 | United States Sea Launch GP, L.L.C., Long Beach, CA (See Footnote 8) | 12068
12540-M | RSPA-2000-7890 | Air Products and Chemicals, Inc., Allentown, PA (See Footnote 9) | 12540
¹ To modify the exemption to authorize the transportation of certain Class 3 materials in a non-DOT specification cylinder.
² To modify the exemption to authorize the transportation of Class 3 and additional Division 6.1 materials in non-DOT specification IMO Type I portable tanks.
³ To modify the exemption to include 3AA cylinders to be manifolded for the transportation of silicon tetrafluoride.
⁴ To modify the exemption to authorize a new pressure vessel design unit for the transportation of certain Division 2.2 materials.
⁵ To modify the exemption concerning the requalification and fiber damage criteria of the non-DOT specification fully wrapped carbon-fiber reinforced aluminum lined cylinders for the transportation of various flammable and non-flammable gases.
⁶ To modify the exemption to authorize the transportation of additional Division 2.2 materials in DOT-3AL aluminum cylinders.
⁷ To modify the exemption to waiver the weight limit requirements for flammable liquids determined by a specially designed flashpoint device.
⁸ To authorize an additional lithium battery material to paragraph 6 for the launch vehicle.
⁹ To reissue the exemption originally issued on an emergency basis authorizing the transportation of hydrogen fluoride, anhydrous in DOT Specification 51 portable tanks which do not have the relieving capacity requirements.

[FR Doc. 00-29936 Filed 11-22-00; 8:45 am]

BILLING CODE 4910-60-M